DEPARTMENT OF JUSTICE

Foreign Claims Settlement Commission

[F.C.S.C. Meeting Notice No. 5-06 (REVISED)]

Notice of Meeting; Sunshine Act

The Foreign Claims Settlement Commission, pursuant to its regulations (45 CFR part 504) and the Government in the Sunshine Act (5 U.S.C. 552b), hereby gives revised notice in regard to the scheduling of meetings for the transaction of Commission business and other matters specified, as follows:

Date and Time: Thursday, June 29, 2006, at 10 a.m.

Subject Matter: Issuance of Amended Final Decisions in claims against Albania.

status: Open.

This is a rescheduling of the Commission meeting previously set for Wednesday, June 28, 2006, at 10 a.m., notice of which was published in the Federal Register on June 19, 2006 (71 FR 35312).

All meetings are held at the Foreign Claims Settlement Commission, 600 E Street, NW., Washington, DC. Requests for information, or advance notices of intention to observe an open meeting, may be directed to: Administrative Officer, Foreign Claims Settlement Commission, 600 E Street, NW., Room 6002, Washington, DC 20579. Telephone: (202) 616-6988.

Mauricio J. Tamargo,
Chairman.

[FR Doc. 06-5627 Filed 6-20-06; 12:37 pm]

BILLING CODE 4410-01-P